DEPARTMENT OF HOMELAND SECURITY

Coast Guard

33 CFR Part 165

[Docket No. USCG-2018-0337]

Recurring Safety Zone; Corpus Christi Hooks Baseball Team/Friday Night Fireworks

AGENCY: Coast Guard, DHS.

ACTION: Notice of enforcement of regulation.

SUMMARY: The Coast Guard will enforce safety zones for the Corpus Christi Hooks Baseball Team/Friday Night Fireworks on odd week Fridays from May 11, 2018 through August 24, 2018, to provide for the safety of life on navigable waterways during this event. Our regulation for marine events within the Eighth Coast Guard District identifies the regulated area for this event in Corpus Christi, TX. During the enforcement periods, entry into these zones is prohibited unless authorized by the Captain of the Port Sector Corpus Christi (COTP) or a designated representative.

DATES: The regulations in 33 CFR 165.801, Table 4, Line 13 will be enforced from 8 p.m. through 11:59 p.m., each day on May 11, May 25, June 8, June 22, July 6, July 20, August 10, and August 24, 2018.

FOR FURTHER INFORMATION CONTACT: If you have questions about this notice of enforcement, call or email Petty Officer Kevin Kyles, Waterways Management Division, U.S. Coast Guard; telephone 361-939-5125, email Kevin.L.Kyles@uscg.mil.

SUPPLEMENTARY INFORMATION: The Coast Guard will enforce safety zones in 33 CFR 165.801, Table 4, Line 13, for the Corpus Christi Hooks Baseball Team/Friday Night Fireworks regulated area from 8 p.m. through 11:59 p.m. on May 11, May 25, June 8, June 22, July 6, July 20, August 10, and August 24, 2018. This action is being taken to provide for the safety of life on navigable waterways during this recurring event. Our regulation for marine events within the Eighth Coast Guard District, § 165.801, specifies the location of the regulated area for the Corpus Christi Hooks Baseball Team/Friday Night Fireworks, which encompasses portions of the Corpus Christi Ship Channel. As reflected in §§ 165.23 and 165.801(a), entry into this zone is prohibited unless authorized by the Captain of the Port Sector Corpus Christi (COTP) or a designated representative. Persons or vessels desiring to enter the zones must request permission from the COTP or a designated representative. They can be reached on VHF FM channel 16 or by telephone at (361) 939-0450. If permission is granted, all persons and vessels shall comply with the instructions of the COTP or designated representative. Designated representatives include commissioned, warrant, and petty officers of the U.S. Coast Guard.

In addition to this notice of enforcement in the Federal Register, the COTP or a designated representative will inform the public through Broadcast Notice to Mariners (BNM), Local Notices to Mariners (LNM), Marine Safety Information Broadcasts (MSIBs), and/or through other means of public notice as appropriate at least 24 hours in advance of each enforcement.

Dated: April 27, 2018.
R.A. Hahn,
Captain, U.S. Coast Guard, Captain of the Port Sector Corpus Christi.

[FR Doc. 2018-10043 Filed 5-10-18; 8:45 am]

BILLING CODE 9110-04-P